DEPARTMENT OF LABOR

Employment and Training Administration

[TA-W-50,904]

B.J. Everett, Old Town, FL; Notice of Termination of Investigation

Pursuant to section 221 of the Trade Act of 1974, as amended, an investigation was initiated on February 14, 2003, in response to a petition filed by a company official on behalf of workers at B.J. Everett, Old Town, Florida.

The petitioner has requested that the petition be withdrawn. Consequently, further investigation would serve no purpose and the investigation has been terminated.

Signed in Washington, DC, this 26th day of March 2003.
Linda G. Poole,
Certifying Officer, Division of Trade Adjustment Assistance.

[FR Doc. 03-8341 Filed 4-4-03; 8:45 am]

BILLING CODE 4510-30-P